DEPARTMENT OF COMMERCE

International Trade Administration

[A-557-809]

Stainless Steel Butt-Weld Pipe Fittings From Malaysia: Final Results of Antidumping Duty Administrative Review; 2017-2018

AGENCY: Enforcement and Compliance, International Trade Administration, Department of Commerce.

SUMMARY: The Department of Commerce (Commerce) determines that Superinox Max Fittings Industries Sdn. Bhd. (Superinox) made sales of subject merchandise at less than normal value during the period of review (POR), February 1, 2017, through January 31, 2018.

DATES: Applicable February 1, 2019.

FOR FURTHER INFORMATION CONTACT: Madeline R. Heeren or Preston Cox, AD/CVD Operations, Office IV, Enforcement and Compliance, International Trade Administration, U.S. Department of Commerce, 1401 Constitution Avenue NW, Washington, DC 20230; telephone: (202) 482-9179 or (202) 482-5041, respectively.

SUPPLEMENTARY INFORMATION:

Background

On October 24, 2018, Commerce published the Preliminary Results of the administrative review of the antidumping duty order on stainless steel butt-weld pipe fittings (pipe fittings) from Malaysia.¹ The administrative review covers one manufacturer/exporter of the subject merchandise, Superinox. We provided interested parties an opportunity to comment on the Preliminary Results. We received no comments. As such, these final results are unchanged from the Preliminary Results. Commerce conducted this review in accordance with section 751(a)(1)(B) and (2) of the Tariff Act of 1930, as amended (the Act).

¹ See Stainless Steel Butt-Weld Pipe Fittings from Malaysia: Preliminary Results of Antidumping Duty Administrative Review and Partial Rescission of Antidumping Duty Administrative Review; 2017-2018, 83 FR 53604 (October 24, 2018) (Preliminary Results) and accompanying memorandum, “Decision Memorandum for Preliminary Results of the 2017-2018 Antidumping Duty Administrative Review of Stainless Steel Butt-Weld Pipe Fittings from Malaysia” (Preliminary Decision Memorandum).

Scope of the Order

For purposes of the order, the product covered is butt-weld fittings. Butt-weld fittings are under 14 inches in outside diameter (based on nominal pipe size), whether finished or unfinished. The product encompasses all grades of stainless steel and “commodity” and “specialty” fittings. Specifically excluded from the definition are threaded, grooved, and bolted fittings, and fittings made from any material other than stainless steel.

The butt-weld fittings subject to the order are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Butt-weld fittings manufactured to specification ASTM A774, or its foreign equivalents, are also covered by the order.

The order does not apply to cast fittings. Cast austenitic stainless steel pipe fittings are covered by specifications A351/A351M, A743/743M, and A744/A744M.

The butt-weld fittings subject to the order are currently classifiable under subheading 7307.23.0000 of the Harmonized Tariff Schedule of the United States (HTSUS). Although the HTSUS subheadings are provided for convenience and customs purposes, the written description of the scope of the order is dispositive.

Final Results of the Administrative Review

We determine that a weighted-average dumping margin of 60.10 percent exists for Superinox for the period of February 1, 2017, through January 31, 2018.

Assessment Rates

In accordance with section 751(a)(2)(C) of the Act, 19 CFR 351.212(b)(1) and the Final Modification,² Commerce will instruct U.S. Customs and Border Protection (CBP) to liquidate all appropriate entries for Superinox without regard to antidumping duties.

² See Antidumping Proceedings: Calculation of the Weighted-Average Dumping Margin and Assessment Rate in Certain Antidumping Duty Proceedings; Final Modification, 77 FR 8101, 8102 (February 14, 2012) (Final Modification).

For entries of subject merchandise during the POR produced by Superinox for which it did not know its merchandise was destined for the United States, we will instruct CBP to liquidate such entries at the all-others rate if there is no rate for the intermediate company(ies) involved in the transaction.³ We intend to issue instructions to CBP 15 days after publication of the final results of this review.

³ See Antidumping and Countervailing Duty Proceedings: Assessment of Antidumping Duties, 68 FR 23954 (May 6, 2003).

Cash Deposit Requirement

The following cash deposit requirements will be effective upon publication of the notice of the final results of administrative review for all shipments of pipe fittings from Malaysia entered, or withdrawn from warehouse, for consumption on or after the date of publication of the final results of this administrative review, as provided by section 751(a)(2)(C) of the Act: (1) The cash deposit rate for Superinox will be 60.10 percent, the weighted-average dumping margin established in the final results of this administrative review; (2) for merchandise exported by manufacturers or exporters not covered in this administrative review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established for the most recently completed segment of the proceeding for the manufacturer of the merchandise; and (4) the cash deposit rate for all other manufacturers or exporters will continue to be 7.51 percent ad valorem, the all-others rate established in the less-than-fair value investigation.

These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a violation subject to sanction.

Notification to Interested Parties

These final results of administrative review are issued and published in accordance with sections 751(a)(1) and 777(i) of the Act and 19 CFR 351.221(b)(5).

Dated: December 21, 2018.
P. Lee Smith,
Deputy Assistant Secretary for Policy and Negotiations.

[FR Doc. 2019-00748 Filed 1-31-19; 8:45 am]

BILLING CODE 3510-DS-P